FEDERAL COMMUNICATIONS COMMISSION

47 CFR Part 79

[MB Docket No. 11-154; DA 14-72]

Deadline Extended for Comment on Media Bureau Public Notice on Application of the IP Closed Captioning Rules to Video Clips

AGENCY: Federal Communications Commission.

ACTION: Proposed rule; extension of comment and reply comment period.

SUMMARY: The Media Bureau extends the deadline for filing comments and reply comments on application of the Internet protocol (“IP”) closed captioning rules to video clips, which was published in the Federal Register on December 26, 2013. The extension will facilitate the development of a full record.

DATES: The comment and reply comment period for the proposed rule published December 26, 2013 (78 FR 78319) is extended. Submit comments on or before February 3, 2014. Submit reply comments on or before March 5, 2014.

ADDRESSES: Federal Communications Commission, 445 12th Street SW., Washington, DC 20554. For detailed instructions on submitting comments and additional information on the rulemaking process, see the Public Notice.

FOR FURTHER INFORMATION CONTACT: Diana Sokolow, Policy Division, Media Bureau, at (202) 418-2120, or email at Diana.Sokolow@fcc.gov. Press contact: Janice Wise, (202) 418-8165.

SUPPLEMENTARY INFORMATION: This is a summary of the Commission's Public Notice in MB Docket No. 11-154, DA 14-72, released on January 22, 2014, which extends the comment and reply comment filing deadline established in DA No. 13-2392, published at 78 FR 78319, December 26, 2013.

1. The Media Bureau extends the deadlines for filing comments and reply comments in the above-captioned proceeding. On December 13, 2013, the Media Bureau sought updated information on the closed captioning of video clips delivered by Internet protocol (“IP”), including the extent to which industry has voluntarily captioned IP-delivered video clips.¹ The Video Clips PN established a comment deadline of January 27, 2014 and a reply comment deadline of February 26, 2014. On January 17, 2014, the National Association of Broadcasters (“NAB”) requested a one week extension of the comment deadline.² NAB explained that it is “currently working diligently on a sister docket” regarding the closely related subject matter of closed captioning quality, and that a one week extension of the video clips comment deadline would enable NAB and others “to continue their collaborative work” in that other docket and to more fully address the issues in the Video Clips PN. We grant NAB's request.

¹ Media Bureau Seeks Comment on Application of the IP Closed Captioning Rules to Video Clips, Public Notice, MB Docket No. 11-154, DA 13-2392 (Dec. 13, 2013) (“Video Clips PN”).

² Motion for Extension of Time of the National Association of Broadcasters, MB Docket No. 11-154 (filed January 17, 2014).

2. As set forth in Section 1.46(a) of the Commission's Rules,³ the Commission's policy is that extensions of time shall not be routinely granted. Given the closely related subject matter of the two pending proceedings, however, we believe that granting NAB's request is necessary to facilitate the development of a full record. Accordingly, we extend the comment deadline by one week, until February 3, 2014. To ensure that interested parties have sufficient time to respond fully to the comments, on our own motion we also extend the reply comment deadline by one week, until March 5, 2014.

³ 47 CFR § 1.46.

Federal Communications Commission.
William T. Lake,
Chief, Media Bureau.

[FR Doc. 2014-02444 Filed 2-5-14; 8:45 am]

BILLING CODE 6712-01-P